NUCLEAR REGULATORY COMMISSION

Security Officer Attentiveness

AGENCY: Nuclear Regulatory Commission.

ACTION: Notice of issuance.

SUMMARY: All holders of operating licenses for nuclear power reactors, except those who have permanently ceased operation and have certified that fuel has been removed from the reactor vessel, and Category I fuel facilities. The contents of this bulletin are for information to Category III fuel facilities, independent spent fuel storage installations, conversion facilities and gaseous diffusion plants. The U.S. Nuclear Regulatory Commission (NRC) is issuing this bulletin to achieve the following three objectives:

1. The agency is notifying addressees about the NRC staff's need for information associated with licensee security program administrative and management controls as a result of security personnel inattentiveness, especially involving complicity, and related concerns with the behavior observation program (BOP). The information is needed to determine if further regulatory action is warranted, if the necessary inspection program needs to be enhanced, or if additional assessment of security program implementation is needed.

2. The NRC seeks to obtain information on licensee administrative and managerial controls to deter and address inattentiveness and complicity among licensee security personnel including contractors and subcontractors.

3. This bulletin requires that addressees provide a written response to the NRC in accordance with Title 10 of the Code of Federal Regulations (10 CFR), Section 50.54(f) or 10 CFR 70.22(d).

This Federal Register notice is available through the NRC's Agencywide Documents Access and Management System (ADAMS) under accession number ML073480342.

DATES: The bulletin was issued on December 12, 2007.

ADDRESSES: Not applicable.

FOR FURTHER INFORMATION CONTACT: Timothy S. McCune at 301-415-6474 or by email tsm5@nrc.gov, Kevin Ramsey at 301-415-3123 or by e-mail kmr@nrc.gov, or Merrilee Banic at 301-415-2771 or email mjb@nrc.gov.

SUPPLEMENTARY INFORMATION: NRC Bulletin 2007-01 may be examined, and/or copied for a fee, at the NRC's Public Document Room at One White Flint North, 11555 Rockville Pike (first floor), Rockville, Maryland. Publicly available records will be accessible electronically from the Agencywide Documents Access and Management System (ADAMS) Public Electronic Reading Room on the Internet at the NRC Web site, http://www.nrc.gov/NRC/ADAMS/index.html. The ADAMS number for the bulletin is ML051740058.

If you do not have access to ADAMS or if you have problems in accessing the documents in ADAMS, contact the NRC Public Document Room (PDR) reference staff at 1-800-397-4209 or 301-415-4737 or by e-mail to pdr@nrc.gov.

Dated at Rockville, Maryland, this 19th day of December 2007.
For the Nuclear Regulatory Commission.
Martin C. Murphy,
Chief, Generic Communications Branch, Division of Policy and Rulemaking, Office of Nuclear Reactor Regulation.

[FR Doc. E7-25398 Filed 12-28-07; 8:45 am]

BILLING CODE 7590-01-P